INTERNATIONAL TRADE COMMISSION

[Investigation No. 731-TA-1012 (Third Review)]

Certain Frozen Fish Fillets From Vietnam

Determination

On the basis of the record ¹ developed in the subject five-year review, the United States International Trade Commission (“Commission”) determines, pursuant to the Tariff Act of 1930 (“the Act”), that revocation of the antidumping duty order on certain frozen fish fillets from Vietnam would be likely to lead to continuation or recurrence of material injury to an industry in the United States within a reasonably foreseeable time.

¹ The record is defined in § 207.2(f) of the Commission's Rules of Practice and Procedure (19 CFR 207.2(f)).

Background

The Commission instituted this review on October 1, 2019 (84 FR 52122) and determined on January 6, 2020 that it would conduct a full review (85 FR 3417, January 21, 2020). Notice of the scheduling of the Commission's review and of a public hearing to be held in connection therewith was given by posting copies of the notice in the Office of the Secretary, U.S. International Trade Commission, Washington, DC, and by publishing the notice in the Federal Register on May 14, 2020 (85 FR 28981). Subsequently, the Commission cancelled its previously scheduled hearing following a request on behalf of the domestic interested parties (85 FR 57882, September 16, 2020).

The Commission made this determination pursuant to section 751(c) of the Act (19 U.S.C. 1675(c)). It completed and filed its determination in this review on November 19, 2020. The views of the Commission are contained in USITC Publication 5135 (November 2020), entitled Certain Frozen Fish Fillets from Vietnam: Investigation No. 731-TA-1012 (Third Review).

By order of the Commission.
Issued: November 19, 2020.
Lisa Barton,
Secretary to the Commission.

[FR Doc. 2020-25939 Filed 11-23-20; 8:45 am]

BILLING CODE 7020-02-P